DEPARTMENT OF LABOR

Office of the Secretary

Combating Exploitative Child Labor Through Education in Egypt, Peru and Tanzania

AGENCY: Bureau of International Labor Affairs, Department of Labor.

Announcement Type: New. Notice of Availability of Funds and Solicitation for Cooperative Agreement Applications.

Funding Opportunity Number: SGA 06-06.

Catalog of Federal Domestic Assistance (CFDA) Number: Not applicable.

Key Dates: Deadline for Submission of Application is July 24, 2006.

Executive Summary: The U.S. Department of Labor, Bureau of International Labor Affairs, will award up to USD 15 million through three or more Cooperative Agreements to an organization or organizations to improve access to and quality of education programs as a means to combat exploitative child labor in Egypt (up to USD 5 million), Peru (up to USD 5 million) and Tanzania (up to USD 5 million). Projects funded under this solicitation will provide educational and training opportunities to children and/or youth under the age of 18, as a means of removing and/or preventing them from engaging in exploitative work or the worst forms of child labor, and will ensure their retention in and completion of the education or training program(s) in which they are enrolled. The activities funded will complement and expand upon existing projects and programs aimed at eliminating the worst forms of child labor and improving basic education in the target countries. Applications must respond to the entire Scope of Work outlined in this solicitation for each country for which an application is submitted.

I. Funding Opportunity Description

The U.S. Department of Labor (USDOL), Bureau of International Labor Affairs (ILAB), announces the availability of funds to be awarded by Cooperative Agreement to one or more qualifying organizations for the purpose of withdrawing and preventing children from entering into exploitative child labor by (a) expanding access to and improving the quality of basic education; (b) strengthening the capacity of government and civil society to address child labor and education; and (c) collecting data on this target population.

Entities applying under this solicitation must develop and implement strategies consistent with the overall purpose of USDOL's Child Labor Education Initiative as described below. ILAB is authorized to award and administer this program by the Consolidated Appropriations Act of 2006 (Pub. L. 109-149), see Conference Report (H. Rept. 109-337). Cooperative Agreements awarded under this initiative will be managed by ILAB's International Child Labor Program (ICLP). The duration of the projects funded by this solicitation is three to four years. The start date of program activities will be negotiated upon award of the Cooperative Agreement, but will be no later than September 30, 2006.

Part 1 of this section provides an overview of USDOL's support of the global elimination of exploitative child labor. Part 2 provides USDOL definitions of key terminology. Part 3 provides an overview of the barriers to education for working children. Part 4 describes the scope of work of the awards themselves, and Part 5 provides an overview of country-specific information and cross-cutting themes to be incorporated in the project design.

1. Background: USDOL Support for the Global Elimination of Exploitative Child Labor

The International Labor Organization (ILO) estimated that 211 million children ages 5 to 14 were working around the world in 2000. Full-time child workers are generally unable to attend school, and part-time child laborers balance economic survival with schooling from an early age, often to the detriment of their education. Since 1995, USDOL has provided approximately USD 477 million in technical assistance funding to combat exploitative child labor in more than 70 countries around the world.

Programs funded by USDOL range from targeted action programs in specific sectors of work to more comprehensive efforts that target the worst forms of child labor as defined by ILO Convention 182. From FY 2001 to FY 2006, the U.S. Congress has appropriated over USD 205 million to USDOL for a Child Labor Education Initiative (EI) to fund programs aimed at nurturing the development, health, safety and enhanced future employability of children around the world by increasing access to quality, basic education for working children and those at risk of entering work, in areas with a high incidence of abusive and exploitative child labor.

In addition to withdrawing and preventing children and/or youth from exploitative child labor through direct education and training opportunities, the EI has four goals:

i. Raise awareness of the importance of education for all children and mobilize a wide array of actors to improve and expand education infrastructures;

ii. Strengthen formal and transitional education systems that encourage working children and those at risk of working to attend school;

iii. Strengthen national institutions and policies on education and child labor; and

iv. Ensure the long-term sustainability of these efforts.

2. Definitions

Exploitative child labor refers to the worst forms of child labor outlined in ILO Convention 182 and all types of work that prevent a child from obtaining an education or impede a child's ability to learn as outlined in ILO Convention 138. (See Appendix B for a visual presentation of the categories of exploitative child labor).

ILO Convention 182, Article 3, defines the worst forms of child labor as comprised of:

(a) All forms of slavery or practices similar to slavery, such as the sale and trafficking of children, debt bondage and serfdom and forced or compulsory labor, including forced or compulsory recruitment of children for use in armed conflict;

(b) The use, procuring or offering of a child for prostitution, the production of pornography or for pornographic performances;

(c) The use, procuring or offering of a child for illicit activities, in particular for the production and trafficking of drugs as defined in the relevant international treaties;

(d) Work which, by its nature or the circumstances in which it is carried out, is likely to harm the health, safety or morals of children.

ILO Convention 138, Minimum Age Convention, Article 7.1(b) is also used to identify exploitative child labor. Article 7.1(b) states that children within a particular age range shall not participate in work that will “prejudice their attendance at school, their participation in vocational orientation or training programmes approved by the competent authority or their capacity to benefit from the instruction received.”

Unconditional worst forms of child labor refers to the worst forms of child labor that fall under Article 3(a)-(c) of ILO Convention 182. For USDOL's Child Labor Education Initiative, children involved in the unconditional worst forms of child labor must no longer be working in an unconditional worst form of child labor to be considered as withdrawn from exploitative work. That is, no improvements in the working conditions of children involved in slavery or slavery-like practices, prostitution or pornography, or illicit activities will create an acceptable environment for children to work, even for one hour.

Hazardous child labor refers to work that falls under Article 3(d) of ILO Convention 182. Applicants are encouraged to consult Recommendation 190 accompanying Convention 182 for additional guidance on identifying hazardous work.

In some cases, the work conditions of children involved in hazardous work may be improved so as to make the work conditions acceptable for children. This may include, for example, reducing hours of work or changing the type of work children perform (i.e., disallowing children in agriculture from working with heavy machinery or pesticide applications). However, conditions can be improved to make work acceptable only for children who may legally work according to the specific laws of the implementing country. If, for example, a nine-year-old child is working in hazardous child labor in a country whose minimum age is 15 years, this child should be completely withdrawn from child labor, since conditions cannot be improved to make it legally acceptable for the child to work.

USDOL defines children withdrawn and prevented as follows:

Children withdrawn from exploitative work refers to those children who were found to be working in exploitative child labor and no longer work under such conditions as a result of a direct project intervention. This category includes: (a) Children who have been completely withdrawn from work, which is required by ILO Convention 182 for unconditional worst forms of child labor, and (b) children who were involved in hazardous work (Article 3(d) of Convention 182) or work that impedes a child's education (ILO Convention 138) but are no longer working under hazardous conditions or impeded from schooling due to improved working conditions (i.e., fewer hours or safer workplaces) or because they have moved into a new, acceptable form of work. To be considered as withdrawn from exploitative child labor each child must also have benefited or be benefiting from a direct educational service (as defined below) provided by the project.

Children prevented from entering exploitative child labor refers to children not yet working but who are considered to be at high-risk of engaging in exploitative child labor (see definition above), for example, siblings of (ex-) working children. A “high-risk” situation refers to a set of conditions or circumstances (i.e., family environment or situation, vicinity of economic activities prone to employ children, etc.) under which the child lives or to which he or she is exposed. In order to be considered as “prevented,” these children must also have benefited or be benefiting from a direct educational service (as defined below) provided by the project.

Direct beneficiaries are children who, as a result of a USDOL-funded project, are (a) withdrawn or prevented from entering exploitative child labor and (b) are provided with a direct educational service (as defined below) that results in their enrollment in at least one of the four categories of educational activities listed below. Note: For a child to be counted as a direct beneficiary for the purposes of USDOL Government Performance and Results Act (GPRA) reporting, the Cooperative Agreement awardee (hereafter referred to as “Grantee”) must complete the following three (3) steps:

(1) Assess the specific needs of each child targeted by the project in order for the child to (a) be withdrawn from or prevented from entering exploitative labor and (b) to be enrolled in an educational activity;

(2) Develop and implement an appropriate strategy for the child that provides a direct educational service that supports their enrollment in at least one of the educational activities defined below; and

(3) Monitor and report to USDOL on the work (e.g., Is the child working in an exploitative labor situation?) and education status (e.g., Is the child still attending an educational or training program?) of each child beneficiary.

Direct educational services may involve either (a) or (b):

(a) The provision of at least one of the following educational activities:

(1) Non-formal or basic literacy education—This type of educational activity may include transitional, levelling, or literacy classes so that a child may either be mainstreamed into formal education and/or can participate in vocational training activities;

(2) Vocational, pre-vocational, or skills training—This type of training is designed to develop a particular, marketable skill (e.g., mechanics, sewing); or

(b) The provision of goods and/or services (if lack thereof is a barrier to education) that meets the specific needs of the targeted children and results in their enrollment or retention in at least one of the four categories of educational activities listed below. Examples of goods and/or services that may meet the specific gaps/educational needs of targeted children include tutoring, school meals, uniforms, school supplies and materials, books, tuition and transportation vouchers, or other types of incentives. The four categories of educational activities that qualify for USDOL's EI are:

(1) Non-formal or basic literacy education;

(2) Vocational, pre-vocational, or skills training;

(3) Formal education—This is defined as the formal school system within the target country; or

(4) Mainstreaming—This type of educational activity involves a project transitioning children from non-formal education into the formal education system. Generally, mainstreaming involves the provision of goods and/or services (e.g., school uniforms, registration fees, transportation vouchers and/or tutoring) that may assist in placement testing and enable a child to attend and stay in school.

Other project interventions may include such activities as awareness raising and social mobilization campaigns, psychosocial services for children, improvements in curriculum, teacher training or improvements to school infrastructure that are also important for improving access to and the quality of basic education. While grantees are encouraged to address the needs of working children in a comprehensive manner, these activities will not be considered as direct educational services. Therefore, individuals benefiting solely from these interventions cannot be counted in GPRA reporting. USDOL recognizes that, in many cases, a combination of services—both direct educational services and other project interventions as outlined in this paragraph—may represent the most effective strategy for prevention or withdrawal of a child from exploitative labor. USDOL encourages applicants to propose the most effective package of services to achieve the goal of prevention or withdrawal.

Strengthening the capacity of government and civil society to address child labor and education may involve one or more of the following four elements:

(1) Adaptation of the legal framework to meet international standards;

Examples of actions that demonstrate progress toward this element include:

• The official adoption of an approved or revised list of hazardous work activities for children after tripartite consultation (e.g., through law, presidential decree);

• The adaptation of labor code or education laws to include or modify child labor-related issues;

• The adaptation of the criminal code to include or modify child labor-related issues;

• The adaptation of existing legislation concerning child labor or education to put it in line with Conventions 138 or 182; or

• The approval of new legislation concerning specific forms of child labor.

(2) The formulation of specific policies and programs at the national, regional, or sectoral level within a country dealing with the worst forms of child labor or basic education;

Progress toward this element can be demonstrated by the development of a policy, plan or program document on the worst forms of child labor, a specific worst form of child labor, or basic education which addresses the worst forms of child labor by one or more of the following entities:

• Any level of Government (local, regional or national);

• The National Steering Committee; or

• Social Partners.

(3) The inclusion of child labor or basic education concerns in relevant development, social and anti-poverty policies and programs;

Examples of actions that demonstrate progress toward this element include:

• The incorporation of basic education (in non-education related programs) or the elimination of child labor as an explicit objective in poverty reduction, development, educational or other social programs;

• The inclusion of child labor or basic education (in non-education related strategies) as an indicator in poverty reduction, development or educational strategies, etc. (e.g. United Nations Development Assistance Framework, Poverty Reduction Strategy Papers, Education for All, the United Nations Millenneum Development Goals) ;

• The inclusion of child laborers as a priority target group in poverty reduction, development or educational strategies; or

• Requiring families to ensure children go to school and do not work in order to receive benefits from social and stipends programs.

(4) The establishment of a child labor monitoring system (CLMS).

Progress in this field can be demonstrated if one or several of the following systems has been established and is in operation:

• A CLMS covering various forms of child labor at the local and/or national level;

• A CLMS in any formal or informal sector, urban or rural; or

• A comprehensive plan and/or pilot program to develop and establish national, local or sector specific CLMS.

The characteristics of a comprehensive and credible CLMS include the following:

• A focus on the child at work and/or in school;

• Involvement of all relevant partners in the field, including labor inspectors, if appropriate;

• Regular observation to identify children in the workplace;

• Referral of identified children to the most appropriate alternative to ensure that they are withdrawn from hazardous work;

• Verification that children have actually shifted from hazardous work to an appropriate situation (school or other); and

• Recordkeeping on the extent and nature of child labor and the schooling of identified child workers.

3. Barriers to Education for Working Children

Throughout the world, there are complex causes of exploitative child labor as well as barriers to education for children engaged in or at risk of entering exploitative child labor. These include: Poverty; education system barriers; infrastructure barriers; legal and policy barriers; resource gaps; institutional barriers; informational gaps; demographic characteristics of children and/or families; cultural and traditional practices; tenuous labor markets; and weak law enforcement.

Although these elements and characteristics tend to exist throughout the world in areas with a high incidence of exploitative child labor, they manifest themselves in specific ways in the country of interest in this solicitation. Therefore, specific, targeted interventions are required. Applicants must be able to identify the specific needs of children in order to ensure (1) their long-term withdrawal or prevention from exploitative child labor, (2) for children of appropriate age, a reduction in the number of hours they work and improvement in their working conditions in accordance with national labor laws and (3) their attendance, retention, and completion of relevant educational and/or training programs. This includes identifying barriers to education and the educational needs of specific children targeted in their project (e.g., children withdrawn from work, children at high-risk of dropping out of school and joining the labor force, and/or children still working in a particular sector) and defining how direct education service delivery, capacity building and policy change can be used to address these particular barriers and needs. Brief background information on education and exploitative child labor in the country of interest is provided below in Section I(5): Country-Specific Scope of Work.

4. Scope of Work—General Requirements

Each project must promote the goals of USDOL's EI listed above in Section I(1). Applicants should propose an innovative project strategy that will build on existing efforts to withdraw children from the worst forms of child labor and improve the conditions of children engaged in other types of legal work, while concurrently enrolling and maintaining these children in suitable educational programs. USDOL considers efforts to strengthen legal frameworks to prohibit exploitative child labor and to improve law enforcement practices against such illicit child labor activities as critical strategies for achieving a long-term impact in combating exploitative child labor and improving access to basic education. Applicants are encouraged to propose creative ideas in addressing the nexus between better enforcement of child labor laws and the improvement of educational opportunities for children.

EI projects are expected to contain at least five critical elements: (1) Focus on Action Research and Data Collection; (2) Direct Educational Services; (3) Clear and Specific Outcomes; (4) Collaboration and Leveraging Resources; and (5) Sustainability. Applicants are expected to consider the economic, social and cultural contexts of the country when formulating project strategies and to recognize that approaches applicable in one country may not be relevant to others. Applicants must take into account cross-cutting themes that could affect project results, including those outlined in Section I(5) for each target country, and meaningfully incorporate them into the proposed strategy, either to increase opportunities or reduce threats to successful implementation.

i. Focus on Action Research and Data Collection. In order to identify gaps, unmet needs and opportunities that could be addressed through a USDOL Child Labor Education Initiative project, applicants must conduct a needs assessment in preparing their application(s) to make a preliminary identification of the current working and educational status of the children that the applicant proposes as direct project beneficiaries. It is expected that the information gathered during this assessment will be refined after award. The assessment, with data sources, must include information on the incidence and nature of exploitative child labor, particularly the worst forms, among target children, hours of work, age and sex distribution of the proposed beneficiaries, educational performance relative to other children, if available, and any research or other data that might indicate correlations between educational performance and child labor. In the proposed strategy, applicants must consult and make reference to relevant literature and documents relating to child labor and the education of target children.

Applicants are also encouraged to propose strategies for collecting further data on exploitative child labor and children's participation in schooling in the early stages of the project's baseline data collection. Applicants must design and implement a project monitoring system that allows for the monitoring and tracking of direct beneficiaries' work and school status throughout the life of the project (including type of work, conditions of work, such as hours of work and hazardous conditions, and school attendance).

ii. Direct Educational Services. Projects funded under this Cooperative Agreement solicitation must provide for the long-term withdrawal and prevention of children and/or youth from exploitative labor through the provision of a direct educational service(s) that ensures their enrollment, retention and completion in at least one of the four educational activities identified in Section I(2). “Withdrawn/prevented,” “exploitative child labor,” and “direct educational services” are defined in detail in Section I(2). USDOL encourages interventions aimed at children and youth under age 18, such as literacy and income-generating activities. Applicants are encouraged to be creative in proposing cost-effective interventions that will have a demonstrable impact in eliminating exploitative child labor; and promoting school retention and completion in the geographical areas where children are engaged in or most at risk of working in the worst forms of child labor. Applicants must demonstrate knowledge of the school calendar and the requirements of basic, non-formal, and vocational education systems, and develop an approach that successfully enrolls children in educational programs with the shortest delay and without missing an academic year or program cycle.

iii. Clear and Specific Outcomes. Within the countries identified in this solicitation, the applicant must identify the geographic areas of greatest need and establish the number of children the project is targeting for withdrawal or prevention from exploitative child labor through the provision of direct educational services that support enrollment in educational activities. Applicants must use the definitions provided in Section I(2) when establishing these targets. The expected outcomes/results of the project are to: (1) Reduce the number of children engaged in or at risk of entering exploitative child labor; (2) increase educational opportunities and access (enrollment and attendance) for children who are at risk of, engaging in, and/or removed from exploitative child labor, particularly its worst forms; (3) ensure retention in, and completion of, educational programs; (4) expand the successful transition of children from non-formal education programs into formal schools or vocational programs; and (5) reduce children's return to exploitative labor.

iv. Collaboration and Leveraging Resources. Due to the limited resources available under this award, applicants are expected to implement programs that complement existing efforts, and where appropriate, replicate or enhance successful models to serve a greater number of children and communities. In order to avoid duplication, enhance collaboration, expand impact, and develop synergies, the Grantee must work cooperatively with national stakeholders in developing project interventions, including the Ministries of Education, Labor, and other relevant ministries, and are encouraged to work with other key stakeholders, including non-governmental organizations (NGOs), national steering/advisory committees on child labor, education, faith and community-based organizations, and working children and their families.

Furthermore, applicants are strongly encouraged to collaborate with existing projects, particularly those funded by USDOL, including Timebound Programs (TBP) and other projects implemented by the International Labor Organization's International Program on the Elimination of Child Labor (ILO-IPEC). As discussed in Section V(1)(F), up to five (5) extra points will be given to applications that include committed non-U.S. Federal Government resources that significantly expand the project's scope. However, applicants must not duplicate the activities of existing efforts and/or projects and are expected to work within host government child labor and education frameworks and priorities.

Note to Applicants: USDOL has notified host government ministry officials of the proposed project. During the preparation of an application for this Cooperative Agreement solicitation, applicants may discuss proposed interventions, strategies, and activities with host government officials and civil society organizations.

v. Sustainability. USDOL considers the issue of sustainability to be of paramount importance and recognizes that questions of sustainability must be addressed at all stages, including project design, implementation and evaluation. From their inception, project strategies should foster sustainability. To USDOL, sustainability is linked to project impact and the ability of individuals, communities, and a nation to ensure that the activities or changes implemented by a project endure. A project's impact is manifested at the level of individuals, organizations, and systems. For individual children and their families this would mean a positive and enduring change in their life conditions as a result of project interventions. At the level of organizations and systems, sustained impact would involve continued commitment and ability (including financial commitment and policy change) by project partners to continue the actions generated by the project, including enforcement of existing policies that target child labor and schooling. Applicants are encouraged to develop approaches that support youth participation in project efforts to eliminate the worst forms of child labor. Applicants are encouraged to identify organizations in the country, including type of local organizations (i.e., rural, indigenous, etc.), which could potentially implement or contribute to a future project. In addition, as child labor projects tend to be implemented in resource-poor environments where government education and labor inspection systems may be limited, applicants are encouraged to work with local stakeholders to develop sustainable child labor and education monitoring systems, including community-based systems, that can complement government efforts to monitor children's working and educational status beyond the life of the project and enforce the country's child labor and education laws.

5. Country-Specific Scope of Work

A. Combating Child Labor Through Education in Egypt

i. Background. An estimated 5.9 percent of children ages 6 to 14 were counted as working in Egypt in 1998. Rural children and children from poor or female-headed households account for the overwhelming majority of working children. Approximately 70 percent of child labor in Egypt occurs in rural areas. Many children work long hours in the agricultural sector where they work in dusty environments, without masks or respirators, and receive little or no training on safety precautions for work with toxic pesticides. Children are also found working in a number of hazardous sectors, including leather tanneries, pottery kilns, glassworks, blacksmith, metal and copper workshops, battery and carpentry shops, mining and quarrying, carpet weaving, auto repair workshops, and textile and plastics factories.

Reports indicate a widespread practice of poor rural families making arrangements to send daughters to cities to work as domestic servants in the homes of wealthy citizens. Child domestic workers are excluded from the protections of the labor code and may be susceptible to physical and sexual abuse, harsh working conditions, and exploitation. Urban areas are also host to large numbers of street children who have left their homes in the country-side to find work, and often to flee hostile conditions at home. The number of working street children in urban areas is estimated at 2 to 5 million. Street children work shining shoes, collecting rubbish, begging, cleaning and directing cars into parking spaces, and selling food and trinkets. Street children are particularly vulnerable to becoming involved in illicit activities, including stealing, smuggling, pornography, and prostitution. The commercial sexual exploitation of children may be under-acknowledged given that Egyptian cities (Alexandria and Cairo, in particular) are reported destinations for sex tourism. Egypt is a country of transit for child trafficking, particularly for underage girls from Eastern Europe and the former Soviet Union who are trafficked into Israel and parts of Europe for forced labor and sexual exploitation.

Child labor is one of among many problems associated with poverty. In 1999, the most recent year for which data are available, 3.1 percent of the population in Egypt were living on less than USD 1 a day. In addition to poverty, numerous other interrelated socio-cultural factors affect whether or not a child enters exploitative work in Egypt, including: The deterioration in access to quality education; low rates of female labor force participation and literacy; the decline of the economic and social benefits of education; local economic inequalities; prevailing customs and traditions; protracted geopolitical conflict; and globalization.

The recent, unprecedented demographic growth in the region has had a profound impact on children, increasingly pushing them into the labor market, often at an early age. The population of Egypt exceeded 75 million in 2004, of which approximately 44 percent were under the age of 19 years. Poverty levels and unemployment rates are significant in urban centers, especially for young people: 15-to 24-year-olds represent only 21 percent of the labor force in Egypt, but over 60 percent of the unemployed population. The high levels of youth unemployment in Egypt increase the likelihood that youth will work under exploitative conditions, particularly in the informal sector, which accounts for approximately 55 percent of the labor force in Egypt.

The Constitution guarantees free and compulsory basic education for children ages 6 to 15 who are Egyptian citizens. Despite the constitutional guarantees to universal education, parents are increasingly responsible for both the direct and indirect costs of education. Egyptian law allows public schools to charge fees for services, insurance, and equipment. In 2002, the gross primary enrollment rate was 97 percent and the net primary enrollment rate was 91 percent. Gross and net enrollment ratios are based on the number of students formally registered in primary school and therefore do not necessarily reflect actual school attendance. Primary school attendance statistics are not available for Egypt. As of 2001, 98 percent of children who started primary school were likely to reach grade 5. A 2000 national survey of children ages 6 to 15 years found that 14 percent of girls were not currently attending school, compared to 8 percent of boys. Working children are predominantly school dropouts or have never been enrolled in school. The 2000 Egyptian Demographic and Health Survey of children ages 8 to 10 found that 3.4 percent of boys had never attended school, compared to 8.4 percent of girls in the same age group.

Due to a significant investment in building and renovating primary schools in the 1990s, access to primary school education in Egypt is now nearly universal; however, concerns about the quality of education persist. The following factors were cited as weaknesses in the education system that contribute to low school attendance among working children in reports from the United Nations Development Program; Egyptian Institute of National Planning; Egyptian Ministry of Planning; and the ILO: The centralized educational structure, inadequate teacher incentives, a shortage of trained teachers, misallocation of resources, overcrowding, corporal punishment in schools, lack of participatory learning techniques, irrelevant curricula, and inadequate school infrastructure, such as sanitation facilities.

ii. Relevant Policies, Programs and Projects. The Government's National Council for Childhood and Motherhood (NCCM) is implementing a national plan to increase educational opportunities for girls and combat the worst forms of child labor, among other goals. The NCCM is executing action programs related to the plan's objectives in collaboration with the Ministry of Manpower and Migration (MOMM), Egyptian Trade Union Federation (ETUF), ILO, UNICEF, and the Ministries of Social Affairs, Agriculture, Education, Health, and Interior. While the action programs being implemented to support the national plan began with technical support from ILO-IPEC and the American Federation of Labor-Congress of Industrial Organizations (AFL-CIO) Solidarity Center, the projects are now operated independently by the NCCM, ETUF, UNICEF, and MOMM without continued support from ILO-IPEC or the Solidarity Center. Efforts by NCCM and MOMM to collaborate with other line ministries and NGOs to increase awareness of child labor and strengthen enforcement of existing laws, include:

• Training police officers to raise awareness of child rights and best practices for dealing with at-risk children and youth in partnership with the Ministry of Interior;

• Conducting an awareness raising campaign in all 26 governorates to highlight the negative impact of child labor on children, their families and employers and to educate them about relevant legislation and enforcement issues in partnership with the Ministry of Information;

• Identifying governorates with high dropout rates in collaboration with the Ministry of Education, in order to increase child labor inspection in those areas;

• Preventing underage children from working in the cotton harvesting sector and providing children working legally with the necessary protection while engaging in agricultural activities in partnership with the Ministry of Agriculture.

The NCCM is implementing projects in the governorates of Sharkia, Menofia, Minya, and Damietta to shift working children into non-hazardous activities and gradually eliminate all forms of child labor. Additionally, the NCCM is executing a large-scale project supported by the European Union and other donors, which addresses children's issues, focusing on 7 priority areas: Child labor, street children, disabled children, early childhood education, drug abuse, girls' education, and prevention of harmful practices against girls. The Egyptian Prime Minister recently earmarked 100 million Egyptian pounds (USD 17.5 million) in matching funds towards this initiative.

Since 2003, the NCCM and UNICEF have been implementing the National Strategy for the Protection and Rehabilitation of Street Children (launched under the auspices of the First Lady), which aims to rehabilitate and reintegrate street children back into society. In June 2005, the NCCM and UNICEF jointly organized a 3-day conference in Cairo entitled “Middle East and North Africa (MENA) Regional Consultation on Violence Against Children,” at which Egypt's First Lady, Mrs. Suzanne Mubarak, announced the establishment of a national hotline to receive complaints of abused children, including child laborers. Following the conference, the NCCM established a permanent committee to combat all forms of violence against children, which will include branches in all governorates and representatives from the Ministries of Interior, Social Affairs, Justice, Education and Health, as well as representatives from civil society.

In January 2006, ILO-IPEC launched a campaign against child labor under the banner Red Card to Child Labor. The campaign is organized in cooperation with the NCCM, Federation International de Football Association (FIFA) and the African Football Confederation, and sponsored by the First Lady. ILO-IPEC is also currently working with a number of NGOs such as the Coptic Evangelical Organization for Social Services (CEOSS), CARITAS, Terre des hommes, the Boy Scouts, and the Red Crescent to raise awareness on child labor. The new Minister of Labor has also expressed her full-fledged support to this campaign and to the fight against child labor in general. In previous programs supported by ILO-IPEC, 11 governorates benefited from programs to provide education services for working children, and 5 of these governorates have been declared “child labor free.”

Large-scale programs and initiatives have focused on the expansion and improvement of basic education in Egypt. The Government of Egypt has established a National Taskforce for Girls' Education to promote girls' education and eliminate gender disparities in the education system by the year 2015. Other programs include USAID's basic education programs and the World Bank's Education Enhancement Project in Egypt, both of which are ongoing. The World Bank's Education Enhancement Program Project is working to ensure universal access to basic education, with an emphasis on girls, and to improve the quality of education. In February 2005, the World Bank also began supporting a USD 108 million Early Childhood Education Enhancement Project, which aims to increase access to and improve the quality of pre-primary education, and increase the capacity of the Ministry of Education to improve kindergarten programs. USAID's Basic Education and Policy Support Activity (BEPS) program provided policy support on child labor and education issues, but this project is no longer active.

iii. Scope of Work. Applicants must propose activities that build upon and complement the work that has been previously carried out by other relevant programs and avoid any unnecessary duplication of effort. The applicant must take into account cross-cutting themes and specific considerations that could affect project results in Egypt, and meaningfully incorporate them into the proposed strategy, either to increase opportunities or reduce threats to successful implementation. In Egypt these could include one or more of the following:

(1) Rural/Urban focus. Applicants should demonstrate thorough knowledge of child labor and barriers to education for working children in both rural and urban areas. The project should develop targeted strategies to decentralize inspection systems, improve monitoring mechanisms, raise awareness and improve access to education and training for working or at-risk children and youth that address the contextual realities and needs at the local level.

(2) Targeted groups. The project should focus direct interventions primarily on withdrawing children and youth under 18 years of age from exploitative labor, with particular emphasis on the worst forms of child labor.

(3) Targeted sectors. In rural areas, the project should specifically target exploitative child labor in the mining and quarrying and the cotton-farming sectors. In urban areas, the project should target child labor in formal establishments such as factories and workshops, as well as informal activity in the streets, markets and tourist centers. The project may also target children (mostly girls) who are sent from rural areas into the cities to work as domestic servants, either in the sending or receiving areas (or both). Applicants may also identify other child labor sectors/areas of intervention, but must provide convincing reasons why the targeted sector/focus merits funding.

(4) Targeted regions. In addition to complementing the upstream policy and awareness activities of the NCCM and ILO-IPEC in the 15 governorates in which child labor elimination programs are already underway, this project should focus direct action efforts primarily in the 12 governorates without ongoing activities: ad-Daqahliyah, Port Said, Suez, al-Isma'iliyah, Asyut, Bani Suwayf, Matruh, al-Bahr al-Ahmar (Red Sea), al-Buhayrah, Kafr ash-Shaykh, al-Gharbiyah, and Suhaj.

(5) Girls' education. The project should address the unique barriers to education for girls in rural as well as urban areas and incorporate these into the proposed interventions.

(6) Collaboration. The project must work collaboratively with institutions and organizations already engaged in child labor and education issues in Egypt and the Middle East and North Africa region at the local, national and regional levels. At a minimum, national collaborations should take place with the ETUF, ILO-IPEC, MOMM, NCCM, the Ministry of Education, the Ministry of Agriculture, the Central Agency for Public Mobilization and Statistics (CAPMAS), and the private sector.

(7) Political and civil society environment. In their approach to project interventions, applicants should take into account the complex legal and political relationship between civil society groups and government structures. Applicants should also factor in the effect that personnel changes in cooperating ministries might have, and design strategies that minimize disruptions when such events occur. Applicants should demonstrate how they have managed to operate within such environments in the past and/or include a plan for doing so under the proposed project.

(8) Weak organizational capacity and conflictive social relations. Evaluations of USDOL projects in the Middle East and North Africa region have noted incidents of weak local organizational capacity and conflictive social relations, including teachers' strikes leading to absenteeism. Applicants should indicate to what extent these challenges might be significant in the areas where the project would be implemented, how they would be addressed and how relationships with grassroots community organizations would be developed.

(9) Educational relevance and cultural sensitivity. Applicants must develop a strategy that will increase the perceived relevance of education and training for working children, their parents, and the communities where they live. If cultural traditions and norms impact decisions about schooling, applicants must show how education programs would be sensitive and responsive to these expectations, particularly as they relate to girls' education.

B. Combating Child Labor Through Education in Peru

i. Background. The urban informal sector in Latin America is dynamic and complex, often an alternative source of employment and entrepreneurship for those not able to obtain jobs in the formal sector. Although there are no recent statistics available on employment in Peru's informal sector, it is estimated that more than one-half of the economically active population works in this sector. Urban informal work makes up a large percentage of services and sales activities. Recent migrants from rural areas who often live in urban slums or barriadas and pueblos jóvenes tend to find precarious livelihoods in the informal sector.

According to a World Bank study published in 2005, 18.1 percent of the population in Peru in 2001 was living on less than USD 1 a day. Urban poverty has increased during the past decade. The United Nations Development Programme's Human Development Report shows that Peru's population living below the poverty line grew from 49 percent in 1997 to 54 percent in 2002. More recent statistics are not available, but the rapid growth of pueblos jóvenes in the outskirts of the main urban centers suggests a continued challenge with issues of poverty and migration.

In the urban informal sector, migrants may also reproduce economic relationships common in rural areas that include self-employment and family labor, including child labor. Young people unaccompanied by their families, or not living with relatives, may be forced to survive alone as street children. An estimated 16.5 percent of children ages 6 to 14 were counted as working in Peru in 1994. The number of children engaged in urban informal work in Peru is unknown, but given the size of the country's informal sector, it is likely that many children are involved. In urban and surrounding areas, they are involved in street-vending, fireworks production, and brick-making. They shine shoes, wash and guard cars, perform at traffic-light intersections, and sell goods on public transportation and markets. Many children, particularly girls, move from rural to urban areas to work as domestic servants. Children are also involved in crime, including petty theft, and drug trafficking. Some children and youth are trafficked internally along commercial routes, where some fall victim to prostitution and other forms of commercial sexual exploitation in tourist and other locations such as beaches, markets, cinemas, theaters, and restaurants.

Whether living on the streets or in slums, urban child laborers are exposed to high emotional and physical risks and levels of violence. Children working in the streets can be harassed by the police, and are extremely vulnerable to traffic accidents and weather conditions. Being on their own and struggling for survival, they generally do not attend school. On the other hand, children who live in slums with their families may manage to combine work with school attendance. Yet poor school quality, combined with many of the social conditions faced in the slums such as family breakdown, domestic violence, early parenthood, and crime may deter school attendance or lead to drop out.

In Peru, the General Education Law establishes free and compulsory public education through secondary school. Despite the legal guarantee for free education, some primary school fees continue to be charged. In 2002, the gross primary enrollment rate was 118 percent and the net primary enrollment was 100 percent. As of 2001, 84 percent of children who started primary school were likely to reach grade five. Girls attend school at a lower rate than boys, and school attendance is lower in rural than in urban areas.

In recent years there have been positive efforts to decentralize school management, giving parents and teachers some decision-making power in relation to the school budget. However at the school performance level, children from poor families continue to learn significantly less and leave school sooner than other children. In the 2003 Programme for International Student Assessment, Peruvian students from poor families scored sharply lower in reading and math than those from higher income families. School performance is a greater issue among indigenous and Afro-Latin students. While 35 percent of students reached sufficient levels of reading comprehension in national tests, that level was only reached by 0.3 percent of native Quechua and 8 percent of native Aymara speakers.

In Peru, the minimum age of work is 15. Various laws regulate the hours and types of jobs that working adolescents may perform. The National Police, local prosecutors, Municipal Child and Adolescent Defender Centers, and the Ministry of Labor and Employment Promotion are involved in the enforcement of child labor laws. Most labor inspections are conducted in the formal sector rather than the urban informal sector, where child labor usually occurs.

ii. Relevant Policies, Programs and Projects. There are a number of efforts by the Government of Peru, international organizations, and NGOs to address exploitative child labor in the urban informal sector. Three important policy frameworks in place in Peru include the National Plan for the Prevention and Eradication of Child Labor, the National Action Plan for Children and Adolescents, and Network Now Against Child Sexual Exploitation. See Comité Directivo Nacional para la Prevención y Erradicación del Trabajo Infantil (CPETI), Plan Nacional de Prevención y Erradicación del Trabajo Infantil, 2005 available on ICLP's Web site http://www.dol.gov/ilab/grants/bkgrd.htm.

The Government of Peru is participating in a USDOL-funded ILO-IPEC program to eliminate exploitative child labor in the domestic service and commercial sex sectors. USDOL also supports a project to provide education to children involved in small-scale artisanal mining in Puno. In order to promote education for child domestics, the Ministry of Education offers night classes and has lengthened matriculation periods for such children. The government also supports NGOs that provide services to sexually exploited and trafficked minors.

There are a number of programs that promote basic education for children involved in or at risk of urban informal work. The Ministry of Women and Social Development (MIMDES) supports the program Street Educators, which provides education and services to children in the streets and urban markets. The National Institute of Family Well-Being has a program that provides a variety of services to working youth, including school support, school reinsertion, reintegration to the family, and vocational training.

The Ministry of Education implements a basic education program to strengthen teachers' skills and provide them with free educational materials. The Ministry also oversees a project to build the capacity to develop innovative teaching materials and operates a tutoring program for children formerly excluded from the public school system, including working children. The Inter-American Development Bank (IDB) is providing a loan to the Ministry of Labor and Employment Promotion to develop training activities and facilitate labor market access for older youth. The IDB provided a new loan in May 2005 to the Ministry of Economy and Finance that aims to provide support to social sector reforms in education, labor and other areas. The Ministry is also working with USAID to develop models of educational decentralization and strengthen local educational capacity.

iii. Scope of Work. The primary focus of proposed strategies should be to develop educational programs for children aged 11 to 15, which will enable them to successfully progress as appropriate towards the completion of secondary school, vocational certification, or other course of study/training that substantially improve their basic literacy, numeracy, entrepreneurial, technical, or vocational skills. Applicants should focus on the urban informal sector and identify urban centers in Peru where they will undertake this work, such as the ones that have been attracting most of the internal migration and informal sector development in the past decades (e.g., Lima, Callao, Piura, Chiclayo, Trujillo, Arequipa, Juliaca, Cuzco and Iquitos). For the purposes of this Solicitation for Grant Applications (SGA), the urban informal sector is used to refer to areas of economic activity in large metropolitan areas that are largely unregulated. Labor relations in this sector are largely based on casual employment, kinship, or personal and social relations rather than on formal contractual arrangements. Examples of such urban informal sector activities include selling goods on the street or in markets or involvement in small scale businesses or industries. Applicants may also identify other child labor sectors/areas of intervention, but must provide convincing reasons why the targeted sector/focus merits funding. The Government of Peru has identified Cajamarca, Lima and Puno as priority regions/cities. These regions should be considered in as much as they fit within the context of this SGA.

The application must also take into account cross-cutting themes that could affect project results in Peru, and meaningfully incorporate them into the proposed strategy, either to increase opportunities or reduce threats to successful implementation. In Peru these include:

(1) Governmental and non-governmental efforts to implement the National Plan for the Prevention and Eradication of Child Labor.

(2) Knowledge of the major trends in thought and practice regarding the informal sector in Peru and its regulation, and how this knowledge might be used to monitor and regulate in a productive manner the worst forms of child labor, and compliance with compulsory education laws.

(3) Organizational and coordination capacity of governmental and non-governmental agencies that might contribute to the project's implementation.

(4) The strength and innovation of many civil society and private sector initiatives to address social and education issues in Peru, and how these might be harnessed to the benefit of the project.

(5) Changes in the political environment, including those resulting from the presidential election, and the corresponding changes that may occur in policy and personnel in cooperating governmental agencies.

(6) The socio-economic environment in which the project will operate and the demographic and social characteristics of the beneficiaries, and how programs to increase income of families in marginalized urban areas might complement the efforts of the project.

C. Combating Child Labor Through Education in Tanzania

i. Background. An estimated 35.4 percent of children ages 5 to 14 worked in Tanzania in 2000-2001. The majority of working children are found in the agricultural sector (77.4 percent) and service sectors (22.4 percent). However, children are also found to be working in the manufacturing sector (0.1 percent) and other sectors (0.2 percent). Children work on commercial tea, coffee, sugar cane, sisal, cloves, and tobacco farms, and in the production of wheat, corn, green algae, pyrethrum and rubber. Children also work in underground mines and near mines in bars and restaurants. In the informal sector, children are engaged in scavenging, fishing, fish processing, and quarrying. Other children work as street vendors, cart pushers, and in garages. Children also work as paid domestic servants in third-party homes.

Tanzania is reported to be a country of origin, transit and destination for women and children trafficked for sexual exploitation and forced labor. Within Tanzania, children are trafficked to work in mines, on farms and in domestic service. It is reported that girls are trafficked from Tanzania to South Africa, Saudi Arabia, the United Kingdom, and Europe for domestic labor. Children are also reportedly trafficked to North Africa and the Middle East.

Girls as young as 7 years, and increasingly boys, are reportedly exploited in prostitution and other forms of commercial sexual exploitation. Children are trafficked, often under false pretenses, from rural to urban areas for exploitation in the commercial sex sector. Such children are often lured with false promises of work as house girls, barmaids, and in hair salons. There are reports of sex tourism involving children under the age of 18 years on the island of Zanzibar. Children from Kenya, Uganda, and Rwanda are also exploited in prostitution in Tanzania. In addition, there are reports of children exploited in the production of pornographic films. HIV/AIDS is a significant factor contributing to the incidence of exploitative labor, including the worst forms of child labor in Tanzania. According to UNICEF, an estimated 2 million children have been orphaned in Tanzania, primarily due to HIV/AIDS.

Education in Tanzania is compulsory for 7 years, until age 15. Primary school fees were eliminated in Tanzania in 2002, and this has led to primary schools becoming overwhelmed by the massive increase in children seeking to take advantage of free primary education. It has also resulted in a lack of resources for additional teachers, classrooms, and books. Moreover, families must pay for books, uniforms, and for enrollment fees for children beyond form 2 (the equivalent of the second year of high school). There are also reports of children not attending school because of poorly paid teachers demanding money from them in order to be enrolled.

ii. Relevant Policies, Programs and Projects. In Tanzania, the Ministry of Labor, Youth Development, and Sports has primary responsibility for enforcing the country's child labor laws. The Ministry's Child Labor Unit works with other government ministries and networks with other stakeholders; gathers, analyzes, and disseminates child labor-related data; and trains and sensitizes labor inspectors on child labor issues. At the community level, child labor committees have been established to identify children who are not attending school and take measures to prevent or withdraw these children from child labor.

The Government of Tanzania is working with ILO's International Program on the Elimination of Child Labor (IPEC) to implement a Timebound Program (TBP), with the goal of eliminating the worst forms of child labor in the country by 2010, including exploitative child labor in commercial agriculture, domestic service, mining, fishing, and prostitution. Under the TBP, the Ministry of Labor's Child Labor Unit is working with ILO-IPEC to provide training for child labor coordinators and other officials in 11 districts to increase their capacity to combat the worst forms of child labor and is developing a community-based monitoring system to collect information and track trends in the incidence of child labor. The Child Labor Unit also acts as the secretariat for the TBP's National Child Labor Elimination Steering Committee (NCLESC), which is responsible for defining objectives and priorities for child labor interventions, approving and overseeing implementation of child labor action projects, and advising the government on various child labor issues.

The Government of Tanzania's Poverty Reduction Strategy Paper (PRSP) includes the elimination of child labor as an objective and established the Poverty Monitoring Master Plan (PMMP), which incorporates the percentage of children in the labor force as a poverty monitoring indicator and calls for an Education Fund to support children from poor families. In February 2005, the PRSP II document—otherwise known as the National Strategies for Growth and Poverty Reduction—was finalized and approved by the Cabinet. The National Strategies for Growth and Poverty Reduction includes specific references to elimination of the worst forms of child labor and the provision of skills training and educational alternatives for children and their families.

The Government of Tanzania supports a number of basic education initiatives, including the Ministry of Education's Complementary Basic Education in Tanzania (COBET) Program and its Vocational Education Training Authority (VETA). As part of the ILO-IPEC Project of Support to the Tanzania TBP, the COBET and CETA programs have provided basic education and vocational training to children withdrawn or prevented from involvement in the worst forms of child labor in 11 target districts.

In addition, from 2002 to 2006, a USDOL-funded, EI project implemented by the NGO, the Education Development Center (EDC), has helped further expand the coverage of informal education services in Tanzania by developing a radio-based curriculum for Standards 1 through 4; establishing 288 Mambo Elimu learning centers in ten districts; and training community mentors to work at each center. With the project nearing completion, the Ministry of Education has stated its intention to support the continued operation of these centers, and Radio Tanzania has agreed to maintain broadcasting of the radio-based curriculum. An effort funded by the Government of Japan, through UNICEF, is also supporting a basic education project targeting out-of-school children in Tanzania by providing textbooks, reading materials on HIV/AIDS, and community workshops on HIV/AIDS with support from COBET.

The government's Basic Education Master Plan aims to achieve universal access to basic education for children over the age of 7 and ensure that at least 80 percent of children complete primary education and are able to read and write by age 15. The government is implementing a 5-year Primary Education Development Plan (PEDP), begun in 2002, which aims to expand enrollment, improve the quality of teaching, and build capacity within the country's educational system. Under the PEDP, the government has committed up to 25 percent of its overall recurrent expenditures on the education sector, 62 percent of which is allocated to primary education. The government has received a USD 150 million credit from the World Bank to support this program. Tanzania's Development Vision 2025 and its Poverty Eradication Strategy 2015 both identify education as a strategy for combating poverty, and the country's poverty eradication agenda includes ensuring all children the right to basic quality education. The Government of Tanzania receives funding from the World Bank and other donors under the Education for All Fast Track Initiative, which aims to provide all children with a primary school education by the year 2015.

iii. Scope of Work. The primary focus of the proposed strategy should be to develop educational programs for children under the age of 18 that will enable them to successfully progress towards the completion of secondary school or its equivalent or the transition to non-exploitative labor in line with Tanzania's national labor laws. The projects developed by the applicant can include catch-up and equivalency programs, basic literacy and numeracy programs, or entrepreneurial, technical or vocational skills.

Applicants should identify target areas in Tanzania where they will undertake this work and the types of the worst forms of child labor from which the project will seek to withdraw or prevent children from engaging. The Government of Tanzania has indicated a number of areas of potential focus for a future USDOL-funded EI project that could build upon and expand the scope of efforts begun under the EDC project referred to above, including the following: (a) Working to raise awareness further in communities about child labor and child rights; (b) expanding upon the coverage—both in terms of districts and educational standards/levels—of non-formal education provided in Tanzania through COBET, VETA, and EDC Mambo Elimu centers; (c) helping to build more effective communication and decision-making processes from the grassroots to the various levels of government on issues related to child labor and basic education; and (d) assisting the Government of Tanzania to assess its VETA program and help make VETA more relevant to the supply and demands of the Tanzanian and global labor markets.

The application must also take into account cross-cutting themes that could affect project results in Tanzania and meaningfully incorporate them into the proposed strategy, either to increase opportunities or reduce threats to successful implementation. In Tanzania, these include:

(1) Governmental and non-governmental efforts to implement the National Timebound Program for the Elimination of the Worst Forms of Child Labor, including the elements of that program that have been incorporated into the Government of Tanzania's PRSP—otherwise known as the Mkukuta.

(2) The government's Basic Education Master Plan and its 5-year PEDP.

(3) Organizational and coordination capacity of governmental and non-governmental agencies that might contribute to the project's implementation.

(4) The strength and innovation of many civil society and private sector initiatives to address social and education issues in Tanzania, and how these might be harnessed to the benefit of the project.

(5) The socio-economic environment in which the project will operate and the demographic and social characteristics of the beneficiaries will be taken into account and addressed, and how programs to increase income of families in marginalized urban areas might complement the efforts of the project.

II. Award Information

Type of assistance instrument: Cooperative agreement. USDOL's involvement in project implementation and oversight is outlined in Section VI(3). The duration of the project(s) funded by this solicitation is up to four (4) years. The start date of program activities will be negotiated upon awarding of the Cooperative Agreement, but will be no later than September 30, 2006.

Up to USD 15 million will be awarded under this solicitation. USDOL may award three or more Cooperative Agreements to one, several, or a partnership of more than one organization(s) that may apply to implement the program. A Grantee must obtain prior USDOL approval for any subcontractor proposed in the application before award of the Cooperative Agreement. The Grantee may not sub-grant any of the funds obligated under this cooperative agreement. See Section IV(5)(E) for further information on subcontracts.

III. Eligibility Information

1. Eligible Applicants

Any commercial, international, educational, or non-profit organization(s), including any faith-based, community-based, or public international organization(s) capable of successfully developing and implementing educational programs that aim to withdraw or prevent children from exploitative child labor in the country of interest is eligible to apply. Neutral, non-religious criteria that neither favor nor disfavor religion will be employed in the selection of Cooperative Agreement recipients. Applications from foreign government and quasi-government agencies will not be considered. An applicant must demonstrate a country presence, independently or through a relationship with another organization(s) with country presence, which gives it the ability to initiate program activities upon award of the Cooperative Agreement. See Section V(1)(C)(ii). Applicants may apply for more than one Cooperative Agreement; however, separate applications must be submitted for each country. If applications for more than one Cooperative Agreement are combined, they will not be considered.

If it is deemed the most effective and efficient strategy for achieving the goals outlined in the Scope of Work, USDOL may award one or more Cooperative Agreements to a partnership of more than one organization(s). If two or more applicants, who do not constitute a single legal entity (hereinafter referred to as “Associations”), join in applying for an award, each member of the Association (hereinafter referred to as an “Associate”) must be individually eligible for award. All references to “the Applicant” refer to Associations as well as individual applicants. All Associates must sign, and agree to be bound jointly and severally by, the awarded Cooperative Agreement, and all must designate one Associate as the “Lead.” Any such Association must submit to USDOL, as an attachment to the application, an Association agreement, reflecting an appropriate joint venture, partnership, or other contractual agreement and outlining the deliverables, activities, and corresponding timeline for which each Associate will be responsible. Copies of such agreements will not count toward the page limit.

If any entity identified in the application as an Associate does not sign the Cooperative Agreement, the Lead must provide, within 60 days of award, either a written subcontract agreement with such entity, acceptable to USDOL, or an explanation as to why that entity will not be participating in the Cooperative Agreement. USDOL reserves the right to re-evaluate the award of the Cooperative Agreement in light of any such change in an entity's status, and may terminate the award if USDOL deems appropriate.

For the purposes of this proposal and the Cooperative Agreement award, the Lead will be: (1) The primary point of contact with USDOL to receive and respond to all inquiries, communications and orders under the project; (2) the only entity with authority to withdraw or draw down funds through the HHS system; (3) responsible for submitting to USDOL all deliverables, including all technical and financial reports related to the project, regardless of which Associate performed the work; (4) the sole entity to request or agree to a revision or amendment of the award or the project document; and (5) responsible for working with USDOL to close out the project. Note, however, that each Associate is ultimately responsible for overall project performance, regardless of any assignment of specific tasks, but Associates may agree, among themselves only, to apportion the liability for such performance. Each Associate must comply with all applicable federal regulations, and is individually subject to audit.

In accordance with 29 CFR part 98, entities that are debarred or suspended from receiving federal contracts or grants shall be excluded from Federal financial assistance and are ineligible to receive funding under this solicitation.

2. Cost Sharing or Matching Funds

This solicitation does not require applicants to share costs or provide matching funds. However, the leveraging of resources and in-kind contributions is strongly encouraged and is a rating factor worth up to five (5) additional points (see Section V(1)(F)).

IV. Application and Submission Information

1. Application Package

This solicitation contains all of the necessary information and forms needed to apply for Cooperative Agreement funding. This solicitation is published as part of this Federal Register notice. Additional copies of the Federal Register may be obtained from your nearest U.S. Government office or public library or online at http://www.archives.gov/federal_register/index.html.

2. Content and Form of Application Submission

Applicants must submit one (1) blue ink-signed original, complete application, plus three (3) copies of the application. Applicants may submit applications for one or more countries. However, applicants applying for a Cooperative Agreement in more than one country must submit a separate application for each country. The application must consist of two (2) separate parts as defined below. Applicants should number all pages of the application. All parts of the application must be written in English, in 10-12 pitch font size.

Part I of the application, the cost proposal, must contain the Standard Form (SF) 424, Application for Federal Assistance and Sections A-F of the Budget Information Form SF 424A, available from ILAB's Web site at http://www.dol.gov/ilab/grants/bkgrd.htm. Copies of the SF 424 and SF 424A are also available online at http://www.whitehouse.gov/omb/grants/sf424.pdf and http://www.whitehouse.gov/omb/grants/sf424a.pdf respectively. The individual signing the SF 424 on behalf of the applicant must be authorized to bind the applicant.

All applicants are requested to complete the Survey on Ensuring Equal Opportunity for Applicants (Office of Management and Budget (OMB) No. 1890-0014), which has been provided as an attachment.

Part II, the Technical Proposal, demonstrates the applicant's capabilities to plan and implement the proposed project in accordance with the provisions of this solicitation. The Technical Proposal must not exceed 45 single-sided (8½″ x 11″), double-spaced pages. The technical application must identify how the applicant will carry out the Scope of Work (Section I Parts (4) and (5)) of this solicitation. The following information is required:

• A two-page abstract summarizing the proposed project and applicant profile information including: Applicant name, contact information of the key contact person at the applicant's organization in case questions should arise (including name, address, telephone and fax numbers, and e-mail address, if applicable), project title, partnership members, proposed project activities (which must focus on the withdrawal and prevention of children from exploitative labor by the provision of direct educational services that support the enrollment of the target children in educational activities), funding level requested and the amount of leveraged resources, if applicable;

• A table of contents listing the application sections;

• A project description as described in the Application Evaluation Criteria found in Section V(1) of this solicitation;

• A logical framework matrix as described in Section V(1)(A);

• A work plan identifying major project activities, deadlines for completing the activities and person(s) or institution(s) responsible for completing these activities that is linked to the logical framework matrix.

Please note that the abstract, table of contents, logical framework matrix and work plan are not included in the 45-page limit for Part II.

Any applications that do not consist of the above-mentioned parts and conform to these standards will be deemed unresponsive to this solicitation and may be rejected. Any additional information not required under this solicitation will not be considered.

3. Submission Dates, Times, and Address

Applications must be delivered (by hand or mail) by 4:45 p.m., eastern time, July 24, 2006, to: U.S. Department of Labor, Procurement Services Center, 200 Constitution Avenue, NW., Room N-5416, Washington, DC 20210, Attention: Lisa Harvey, Reference: Solicitation 06-06. Applications sent by e-mail, telegram, or facsimile (FAX) will not be accepted. Applications sent by non-Postal Service delivery services, such as Federal Express or UPS, will be accepted; however, the applicant bears the responsibility for timely submission. The application package must be received at the designated place by the date and time specified or it will be considered unresponsive and will be rejected. Any application received at the Procurement Services Center after the deadline will not be considered unless it is received before the award is made and:

A. It is determined by the Government that the late receipt was due solely to mishandling by the Government after receipt at USDOL at the address indicated; and/or

B. It was sent by registered or certified mail not later than the fifth calendar day before the deadline; or

C. It was sent by U.S. Postal Service Express Mail Next Day Service-Post Office to Addressee, not later than 5 p.m. at the place of mailing two (2) working days, excluding weekends and Federal holidays, prior to the deadline.

The only acceptable evidence to establish the date of mailing of a late application sent by registered or certified mail is the U.S. Postal Service postmark on the envelope or wrapper and on the original receipt from the U.S. Postal Service. The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service.

If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the time of receipt at USDOL is the date/time stamp of the Procurement Service Center on the application wrapper or other documentary evidence of receipt maintained by that office. Confirmation of receipt can be obtained from Lisa Harvey (see Section V(3)(F) for contact information). All applicants are advised that U.S. mail delivery in the Washington D.C. area can be slow and erratic due to concerns involving contamination. All applicants must take this into consideration when preparing to meet the application deadline.

4. Intergovernmental Review

This funding opportunity is not subject to Executive Order 12372, “Intergovernmental Review of Federal Programs.”

5. Funding Restrictions, Unallowable Activities, and Specific Prohibitions

In addition to those specified under OMB Circular A-122, the following costs and activities are also unallowable or contain specific restrictions:

A. Pre-award Costs

Pre-award costs are not reimbursable.

B. Alternative Income-Generating Activities

USDOL funds awarded under all USDOL-ICLP Cooperative Agreements may not be used to provide micro-credits, revolving funds, or loan guarantees. Permissible costs related to alternative income-generating activities for parents and adolescents may include, but are not limited to, vocational or skills training, incidental tools and equipment, guides, manuals, and market feasibility studies. USDOL reserves the right to negotiate the exact nature, form, or scope of alternative income-generating activities and to approve or disapprove these activities at any time after award of the Cooperative Agreement.

C. Direct Cash Transfers to Communities, Parents, or Children

As a matter of policy, USDOL does not allow for direct cash transfers to target beneficiaries. Therefore, Grantees may not provide direct cash transfers to communities, parents, or children. USDOL, however, would support the purchase of incidental items in the nature of “participant support costs” as defined in OMB Circular A-122, Attachment B, No. 34, which are necessary to ensure that target children are no longer working in exploitative child labor and that these children have access to schooling. Participant support costs are direct costs that may include such items as uniforms, school supplies, books, provision of tuition (i.e., in the form of stipends), and transportation costs. If approved by USDOL, these items are expected to be purchased or paid for directly by the Grantee or its subcontractor(s) in the form of vouchers, or payment to the service provider, as opposed to handing cash directly to children or other individuals.

If the applicant proposes the provision of participant support costs, the applicant must specify: (1) Why these activities and interventions are necessary, and how they will contribute to the overall project goals; and (2) how the disbursement of funds will be administered in order to maximize efficiency and minimize the risk of misuse. The application must also address how participant support costs will be made sustainable once the project is completed (i.e., the mechanism(s) for which support will be mainstreamed into government efforts after project ends).

D. Construction

Construction with funds under the Cooperative Agreement is subject to USDOL approval and ordinarily should not exceed 10 percent of the project budget's direct costs and is expected to be limited to improving existing school infrastructure and facilities in the project's targeted communities. USDOL encourages applicants to cost-share and/or leverage funds or in-kind contributions from local partners when proposing construction activities in order to ensure sustainability.

E. Subcontracts to Organizations, Groups and/or Persons

The funding for this program does not include authority for sub-grants. Sub-granting may not appear or be included in the budget as a line item or in the Project Document text.

However, Grantees may enter into sub-contractual relationships with other organizations to fulfill the purpose and activities of the Cooperative Agreement award. Subcontracting may be included as a budget line item. Subcontracts must be awarded in accordance with 29 CFR 95.40-48 and are subject to audit, in accordance with the requirements of 29 CFR 95.26(d). Subcontracts awarded after the Cooperative Agreement is signed, and not proposed in the application, must be awarded through a formal competitive bidding process, unless prior written approval is obtained from USDOL. In addition, all subcontracts are subject to the restrictions and prohibitions related to prostitution, inherently religious activities, and terrorism as outlined in Section 5(H-J). Detailed information on subcontracts should be provided during the project document review process. Copies of all subcontracts above $100,000 must be provided to USDOL.

In compliance with Executive Orders 12876, as amended, 13230, 12928 and 13021, as amended, Grantees are strongly encouraged to provide subcontracting opportunities to Historically Black Colleges and Universities, Hispanic-Serving Institutions and Tribal Colleges and Universities.

F. Lobbying or Fund-raising the U.S. Government With Federal Funds

Under the Cooperative Agreements, no activity, including awareness raising and advocacy activities, may include fund-raising, or lobbying of U.S. Federal, State or local governments (see OMB Circular A-122). Cooperative Agreement applicants classified under the Internal Revenue Code as a 501(c)(4) entity (see 26 U.S.C. 501(c)(4)), may not engage in lobbying activities. According to the Lobbying Disclosure Act of 1995, as codified at 2 U.S.C. 1611, an organization, as described in Section 501(c)(4) of the Internal Revenue Code of 1986, that engages in lobbying activities directed toward the U.S. Government will not be eligible for the receipt of Federal funds constituting an award, grant, Cooperative Agreement, or loan.

G. Funds to Host Country Governments

USDOL funds awarded under this solicitation are not intended to duplicate or substitute for host-country government efforts or resources intended for child labor or education programs. Therefore, in general, Grantees may not provide any of the funds obligated under the Cooperative Agreement to foreign government entities, ministries, officials, or political parties. However, subcontracts with foreign government agencies may be awarded to provide direct educational services or undertake project activities subject to applicable laws and only after a competitive procurement process has been conducted and no other entity in the country is able to provide these services. Grantees must receive prior USDOL approval before subcontracting to foreign government agencies for the provision of direct educational services.

H. Prostitution

The U.S. Government is opposed to prostitution and related activities, which are inherently harmful and dehumanizing, and contribute to the phenomenon of trafficking in persons. U.S. non-governmental organizations, and their subcontractors, cannot use U.S. Government funds to lobby for, promote or advocate the legalization or regulation of prostitution as a legitimate form of work. Foreign non-governmental organizations, and their subcontractors, that receive U.S. Government funds cannot lobby for, promote or advocate the legalization or regulation of prostitution as a legitimate form of work; this includes organizations receiving both general and trafficking-related grants. It is the responsibility of the primary Grantee to ensure its subcontractors meet these criteria.

I. Inherently Religious Activities

The U.S. Government is generally prohibited from providing direct financial assistance for inherently religious activities. Federal funds provided under a USDOL-awarded Cooperative Agreement may not be used for religious instruction, worship, prayer, proselytizing or other inherently religious activities. Neutral, non-religious criteria that neither favor nor disfavor religion must be employed by the Grantee in the selection of subcontractors. This provision must be included in all subcontracts issued under the Cooperative Agreement.

J. Terrorism

Applicants are reminded that U.S. Executive Orders and U.S. law prohibit transactions with, and the provision of resources and support to, individuals and organizations associated with terrorism. It is the legal responsibility of Grantees to ensure compliance with these Executive Orders and laws. This provision must be included in all subcontracts issued under the Cooperative Agreement.

FOR FURTHER INFORMATION CONTACT: Lisa Harvey e-mail address: harvey.lisa@dol.gov. For a list of frequently asked questions on USDOL's Child Labor Education Initiative Solicitation for Cooperative Agreement, please visit http://www.dol.gov/ILAB/faq/faq36.htm.

V. Application Review Information

1. Application Evaluation Criteria

This section identifies and describes the criteria that will be used to evaluate proposals for USDOL's Child Labor Education Initiative on the basis of 100 points. Up to 10 additional points will be given to proposals: (a) providing direct educational services to 10,000 or more direct beneficiaries (5 points) and (b) which include non-Federal leveraged resources (5 points) as described below in Sections V(1)(E) and V(1)(F). Applicants are requested to prepare their technical proposal (45 page maximum) organized in accordance with Appendix A, and address all of the following rating factors. When preparing the technical proposal, the applicant must follow the outline provided in Appendix A.

Project Design/Budget-Cost Effectiveness | 40 points
Promoting Sustainability | 15 points
Organizational Capacity | 25 points
Key Personnel/Management Plan/Staffing | 20 points
Direct Beneficiaries | 5 extra points
Leveraging Resources | 5 extra points

A. Project Design/Budget-Cost Effectiveness (40 Points)

This part of the technical proposal constitutes the “preliminary project design document” and serves as the basis of the final project document to be submitted and approved by USDOL after Cooperative Agreement award. The applicant's preliminary project design document must describe in detail the proposed approach to comply with each requirement and be linked to a supporting logical framework matrix. The supporting logical framework matrix will not count in the 45-page limit, but should be included as an annex to the preliminary project design document. To guide applicants, a sample logical framework matrix for a hypothetical Child Labor Education Initiative project is available at: http://www.dol.gov/ilab/grants/bkgrd.htm.

i. Background and Justification. Applicants will be rated based on their knowledge and understanding of: (a) The child labor and education context in the host country and in the targeted sectors; (b) the issues, barriers, and challenges involved in providing education to children engaged in or at risk of engaging in exploitative child labor, as a strategy for ensuring their long-term withdrawal or prevention; (c) best-practice solutions to address their needs; and (d) the policy and implementing environment in the selected country.

Additional factors for consideration include:

• Assessment of the incidence and nature of exploitative child labor, particularly the worst forms in geographic area and/or sector targeted, including hours of work, age and sex distribution of the target group, educational performance relative to other children, and if available, any research or data that might indicate correlations between educational performance and child labor;

• Identification of the sources of the relevant literature and documents used to analyze the child labor and educational context;

• Demonstrated familiarity with existing child labor, education and social welfare policies, plans and projects and the sector in which the children work, which the applicant is using to inform project design for target children; and

• Demonstrated knowledge of other relevant programs as they pertain to child labor or education of target children in Egypt, Peru or Tanzania.

ii. Proposed strategy. The applicant must discuss its proposed strategy: (a) To provide for the long-term withdrawal and prevention of children and/or youth from exploitative labor through the provision of a direct educational service(s) that ensures their enrollment, retention and completion in at least one of the four educational activities identified in Section I(2); (b) to collect data on this target population; and (c) to build the capacity of national institutions and civil society to address child labor and education issues. Please refer to Section I(2) for USDOL's definition of “exploitative child labor,” “withdrawn/prevented,” “direct educational services,” and “strengthening the capacity of government and civil society.” Applicants will be rated based on the quality and pertinence of their proposed strategies.

The proposal must: (1) Identify how many children and/or youth are expected to be withdrawn or prevented from exploitative child labor by the project through the provision of direct educational services; (2) describe the specific gaps/educational needs of the children targeted by the project and explain how the project will address those gaps/needs/barriers of the children targeted; (3) provide detailed information on the forms of direct educational services that will be provided to the target children, including the type(s) of educational activities in which the children will be enrolled, to prevent them from entering and/or to withdraw them from exploitative labor, as well as the types of training opportunities and technical assistance that will be provided to project staff, host country nationals, and community groups involved in the project; and (4) provide a detailed work plan that identifies major project activities, deadlines for completing these activities, and person(s) or institution(s) responsible for completing these activities. (The work plan may vary depending on what is the most logical form. It may, for example, be divided by project component, country, or region.) Based on the specific cost-efficiency measures DOL/ICLP has established with OMB, a minimum of 8,600 direct beneficiaries must be served for each $5 million project. Applications that propose to serve less than 8,600 direct beneficiaries will be considered non-responsive. Please refer to Section I(2) for USDOL's definition of “direct beneficiaries.”

Please note that the number of children targeted for withdrawal and the number of children targeted for prevention should be reported separately. Applicants are strongly encouraged to propose a balanced number of children targeted for withdrawal from exploitative child labor with the number of children targeted for prevention. Applicants should also provide information on how many children will be indirect beneficiaries of the project, i.e., those benefiting from other project interventions, such as through improved school quality, but who would not qualify as a direct beneficiary. See Section I(2) for further guidance on “other project interventions.” In each case, detailed information on the project beneficiaries, including demographics, sectors of work, geographical location, type(s) of educational activities provided, and other relevant characteristics and strategies must be provided. Applicants are strongly encouraged to enroll at least one-quarter of the children the project is targeting for withdrawal or prevention in educational activities during the first year of project implementation.

Additional factors that will be considered include:

• Demonstrated knowledge of the school calendar and the requirements of basic, non-formal and vocational education systems to develop an approach that successfully enrolls children in educational programs with the shortest delay without missing an academic year or program cycle;

• The extent to which country-specific cross-cutting themes that could affect project results, including those outlined in Section I(5), were meaningfully incorporated into the proposed strategy, either to increase opportunities or reduce threats to successful implementation;

• Incorporation of the economic and social context of the country in the proposed strategy, recognizing that approaches applicable in one country may not be relevant to others;

• The extent to which the proposed project promotes the goals of USDOL's Child Labor Education Initiative as listed in Section I(1);

• The creative and innovative nature of the applicant's approach to promote policies and services that will enhance the provision of educational opportunities for children involved in or at risk of entering exploitative child labor;

• The extent to which the number of children targeted by the project is commensurate with the need in the geographical area or sector where the project will be implemented;

• The feasibility and sensibility of the timeframes for the accomplishment of tasks;

• The clarity and quality of the information provided in the work plan; and

• The extent to which the proposed approach will build upon existing activities, government policies, and plans, thereby avoiding needless duplication.

iii. Project Monitoring and Evaluation. The applicant must describe: (1) How management will ensure that the goals and objectives will be met; (2) how information and data will be collected and used to demonstrate the impacts of the project; and (3) what systems will be put in place for self-assessment, evaluation, and continuous improvement.

USDOL has already developed common indicators (withdrawn/prevented, retention, and completion) and a database system for monitoring and tracking children's education and work status that can be used and adapted by Grantees after award. Further guidance on common indicators will be provided after award, thus applicants should focus their program management and performance assessment responses toward the development of their project's monitoring and tracking strategy to ensure children are: (a) Withdrawn and prevented from exploitative child labor; (b) provided educational/training opportunities; (c) able to continue or complete their educational programs; and (d) able to remain out of exploitative labor. Due to the potentially significant links between hours worked, working conditions, and school performance, Grantees must collect information to track this correlation among project beneficiaries.

Applicants should describe their monitoring strategies for measuring their performance in meeting the four goals of the Child Labor Education Initiative set out in Section I(1) and assessing the impact of proposed direct educational services on target children/youth and other project interventions on indirect beneficiaries, including a limited number of additional key indicators of project performance. These indicators will serve as a basis for Grantees' Draft Performance Monitoring Plan (see Section VI(3)(D)).

Additional factors for consideration include:

• The applicant's plan for collecting baseline data;

• The applicant's plan for monitoring and tracking direct beneficiaries' work and education status, including the following factors: Type of work, conditions of work, such as hours of work and hazardous conditions, and school attendance; and

• The applicant's proposed methodologies for tracking the correlation between the number of hours worked, working conditions and school performance.

iv. Budget-Cost Effectiveness. This section will be evaluated in accordance with applicable Federal laws and regulations. The budget must comply with Federal cost principles (which can be found in the applicable OMB Circulars). Applicants are also instructed that the project budget submitted with the application must include all necessary and sufficient funds, without reliance on other contracts, grants, or awards, to implement the applicant's proposed project activities and to achieve proposed project goals and objectives under this solicitation. If anticipated funding from another contract, grant, or award fails to materialize, USDOL will not provide additional funding to cover these costs. Applicants must provide an Outputs-Based Budget. An example of an Outputs-Based Budget is available from ILAB's Web site at http://www.dol.gov/ilab/grants/bkgrd.htm. The budget summary should include the cost breakdown for the Applicant. The applicant must (a) show how the budget reflects program goals and design in a cost-effective way to reflect budget/performance integration and (b) link the budget to the activities and outputs of the work plan discussed above.

The applicant must identify the direct cost per child of withdrawing a child from exploitative child labor and maintaining the child in the proposed project educational program(s) based on existing costs of similar programs.

The largest proportion of resources should be allocated to direct educational services and activities aimed at targeted children, rather than direct and indirect administrative costs. Higher ratings may be given to applicants with low administrative costs and with a budget breakdown that provides a larger amount of resources to project activities. All projected costs should be reported, as they will become part of the Cooperative Agreement upon award. In their cost proposal (Part I of the application), applicants must reflect a breakdown of the total administrative costs into direct administrative costs and indirect administrative costs. The Grant Officer reserves the right to negotiate administrative cost levels prior to award.

This section of the application must explain the costs for performing all of the requirements presented in this solicitation, and for producing all required reports and other deliverables (see Section VI(3)). The project budget must therefore include funds to: Plan, implement, monitor, report on, and evaluate programs and activities (including mid-term and final evaluations and annual single audits or attestation engagements, as applicable); conduct studies pertinent to project implementation, including baseline studies; and finance travel by field staff and key personnel to meet annually with USDOL officials in Washington, DC or within the project's region (e.g., Africa, Asia/Pacific, Latin America, Caribbean, Middle East and North Africa, and Europe). Applicants based both within and outside the United States should budget for travel by field staff and other key personnel to Washington, DC at the beginning of the project for a post-award meeting with USDOL. Applicants should also budget for a facilitator-led project launch meeting in the target country, which will allow key stakeholders to discuss issues of project design and monitoring. This should include travel for a facilitator to and from the country.

Applicants should set aside a total of at least USD 70,000 in the proposed budget to cover the costs of a mid-term and a final evaluation, including: (1) Labor costs, particularly those associated with hiring an independent external evaluator and other staff time; (2) costs associated with conducting a stakeholders' meeting, including meeting facilities, interpreters (if necessary) and travel costs of meeting participants; and (3) site visits including travel to and within country (airfare, ground transportation, meals and lodging, interpreters (if necessary), etc.).

Applications are expected to allocate sufficient resources to proposed studies, assessments, surveys, and monitoring and evaluation activities, including costs associated with data collection. This includes but is not limited to costs associated with meeting the above reporting requirements including collecting and reporting on the common indicators (withdrawn/prevention, retention, and completion), data management, and assessing the impact of direct educational services on target children/youth and project interventions on indirect beneficiaries.

In addition, the budget should include a contingency provision, calculated at 5 percent of the project's total direct costs, for unexpected expenses essential to meeting project goals, such as host country currency devaluations, security costs, and inflation. USDOL will not provide additional funding to cover unanticipated costs.

Additional factors that will be considered include:

• The reasonableness and realism of prices/costs suggested in the budget;

• The extent to which the proposed budget takes into account the type of work in which the target children are currently engaged;

• Evidence that the proposed cost-efficiencies (defined as direct cost per child) is aligned with existing price structures for similar programs;

• Demonstration, to the extent possible, that the proposed cost-efficiencies are designed to withdraw or prevent as many children from exploitative child labor as possible through direct educational services that support their enrollment in educational activities.

Applicants are encouraged to discuss the possibility of exemption from customs and Value Added Tax (VAT) with host government officials during the preparation of an application for this Cooperative Agreement. While USDOL encourages host governments to not apply customs or VAT taxes to USDOL-funded programs, some host governments may nevertheless choose to assess such taxes. USDOL may not be able to provide assistance in this regard. Applicants should take into account such costs in budget preparation. If major costs are omitted, a Grantee may not be allowed to include them later.

Note to Applicants: After grant award, grantees must obtain prior approval from USDOL before using unobligated evaluation or contingency funds. If contingency funds have not been exhausted toward the end of the project period, USDOL and the Grantee will determine whether it is appropriate to reallocate the funds to direct educational or training services or return the funds to USDOL.

B. Sustainability Plan (15 points)

The applicant must discuss a proposed plan for sustainability of project efforts. The application must address detailed strategies, assumptions, and conditions for sustainability. Strategies are likely to differ by project and by the type of sustainability being addressed (i.e., financial, services/benefits, programmatic/institutional and political). Sustainability plans must also include a clear exit strategy that outlines how a project will transfer responsibility for project components to local or national stakeholders by the end of the project, if not sooner. Activities to address sustainability issues must be identified together with a list of (or statement concerning) external factors that may impact sustainability. Applicants must identify organizations in the target country, including type of local organizations (i.e., rural, indigenous, etc.), which could potentially implement or contribute to a future project. Sustainability plans must also include a clear process for monitoring progress towards achieving the different areas of sustainability and key partners or institutions involved. In addition to the above factors, applicants will be rated based on the pertinence and appropriateness of the proposed sustainability plan.

C. Organizational Capacity (25 points)

Under this criterion, the applicant must present the qualifications of the organization(s) implementing the project. The evaluation criteria in this category are as follows:

i. International and U.S. Government Grant Experience. The organization applying for the award has international experience implementing basic, transitional, non-formal, or vocational education programs that aim to withdraw or prevent children from exploitative labor and address issues of educational access, quality, and policy reform for vulnerable children, preferably in the country of interest.

The application must include information on previous and current grants, Cooperative Agreements, or contracts of the applicant with USDOL and other Federal agencies that are relevant to this solicitation, including:

(1) The organizations for which the work was done;

(2) A contact person in that organization with his/her current phone number;

(3) The dollar value of the grant, contract, or Cooperative Agreement for the project;

(4) The time frame and professional effort involved in the project;

(5) A brief summary of the work performed; and

(6) A brief summary of accomplishments.

This information on previous grants, Cooperative Agreements, and contracts held by the applicant must be provided in appendices and will not count against the maximum page requirement. USDOL reserves the right to contact the organizations listed and use the information provided in evaluating applications.

Note to All Applicants: In judging organizational capacity, USDOL will take into account not only information provided by an applicant, but also information from the USDOL and others regarding past performance of organizations already implementing Child Labor Education Initiative projects or activities for USDOL and others. Past performance will be rated by such factors as the timeliness of deliverables, and the responsiveness of the organization and its staff to USDOL or grantor communications regarding deliverables and Cooperative Agreement or contractual requirements. In addition, the performance of the organization's key personnel on existing projects with USDOL or other entities, whether the organization has a history of replacing key personnel with similarly qualified staff, and the timeliness of replacing key personnel, will also be taken into consideration when rating past performance. Lack of past experience with USDOL projects, Cooperative Agreements, grants, or contracts is not a bar to eligibility or selection under this solicitation.

ii. Country Presence and Host Government Support. Given the need to provide children engaged in the worst forms of child labor with immediate assistance in accessing educational and training opportunities, applicants will be evaluated on their ability to start up project activities soon after signing a Cooperative Agreement. Having country presence, or partnering with in-country organizations, presents the best chance of expediting the delivery of services to children engaged or at risk of engaging in the worst forms of child labor. In their application, applicants must address their organization's country presence; ability to work directly with government and NGOs, including local and community-based organizations; and ability to start up project activities in a timely fashion. Applicants may submit supporting documentation with their application demonstrating country presence and/or outreach to host government ministries and non-governmental organizations in the country. These attachments will not count toward the page limit.

Within 60 days of award, an applicant, or its partners, must be formally recognized by the host government(s) using the appropriate mechanism, i.e., Memorandum of Understanding or local registration of the organization.

iii. Fiscal Oversight. Applicants will be evaluated on their ability to demonstrate evidence that the organization has a sound financial system in place. If the applicant is a U.S.-based, non-profit organization already subject to the single audit requirements, the applicant's most recent single audit, as submitted to the Federal Audit Clearinghouse, must accompany the application as an attachment. In addition, applications must show that they have complied with report submission timeframes established in OMB Circular A-133. If an applicant is not in compliance with the requirements for completing their single audit, the application will be considered unresponsive and will be rejected. If the applicant is a for-profit or foreign-based organization, a copy of its most current independent financial audit must accompany the application as an attachment.

Applicants should also submit a copy of the most recent single audit report for all proposed U.S.-based, non-profit partners, Associates and subcontractors that are subject to the Single Audit Act. If the proposed Associate(s) or partner(s) is a for-profit or foreign-based organization, a copy of its most current independent financial audit should accompany the application as an attachment.

If the audit submitted by the applicant reflects any adverse opinions, the application will not be further considered by the technical review panel and will be rejected. USDOL reserves the right to ask further questions on any audit report submitted as part of an application. USDOL also reserves the right to place special conditions on Grantees if concerns are raised in their audit reports.

In order to expedite the screening of applications and to ensure that the appropriate audits are attached to the proposals, the applicant must provide a cover sheet to the audit attachments listing all proposed partners and subcontractors. These attachments will not count toward the application page limit.

D. Management Plan/Staffing (20 Points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to ensure that they meet the required qualifications.

Management and professional technical staff members comprising the applicant's proposed team should be individuals who have prior experience with organizations working in similar efforts, and who are fully qualified to perform the work specified in the Scope of Work. Where subcontractors or outside assistance are proposed, organizational lines of authority and responsibility should be clearly delineated to ensure responsiveness to the needs of USDOL.

In order to promote and increase national and local capacity, USDOL encourages the hiring of qualified national experts. USDOL also encourages applicants to consider staffing strategies that aim to develop capacity of national staff over the course of the project as part of a contribution to the development of national capacity for combating child labor. Preference may be given to applicants who propose such strategies.

i. Key Personnel. The Applicant must identify all key personnel candidates proposed to carry out the requirements of this solicitation. “Key personnel” are staff (Project Director, Education Specialist, and Monitoring and Evaluation Officer) who are essential to the successful operation of the project and completion of the proposed work.

(1) The Project Director will be responsible for overall project management, supervision, administration, and implementation of the requirements of the Cooperative Agreement. The Project Director will establish and maintain systems for project operations; ensure that all Cooperative Agreement deadlines are met and targets are achieved; maintain working relationships with project stakeholders and partners; and oversee the preparation and submission of progress and financial reports. The Project Director must have a minimum of three years of professional experience in a leadership role in implementation of child labor and complex basic education programs in developing countries in areas such as: Education policy; improving educational quality and access; educational assessment of disadvantaged students; development of community participation in the improvement of basic education for disadvantaged children; and monitoring and evaluation of basic education projects. Consideration will be given to candidates with additional years of experience including experience working with officials of ministries of education and/or labor. Preferred candidates must also have knowledge of exploitative child labor issues, and experience in the development of transitional, formal, and vocational education of children removed from exploitative child labor and/or victims of the worst forms of child labor. Fluency in English is required and working knowledge of at least one of the official languages of the target country is preferred.

(2) The Education Specialist will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitative child labor/education policy and monitoring and evaluation is an asset. A working knowledge of English is preferred, as is a similar knowledge of the official language(s) spoken in the target country.

(3) The Monitoring and Evaluation Officer who will oversee the implementation of the project's monitoring and evaluation strategies and requirements. This person should have at least three years progressively responsible experience in the monitoring and evaluation of international development projects, preferably in education and training or a related field. Related experience can include strategic planning and performance measurement, indicator selection, quantitative and qualitative data collection and analysis methodologies, database management, and knowledge of the GPRA. Individuals with a demonstrated ability to build capacity of the project team and partners in these domains will be given special consideration.

The applicant must include a resume, as well as a description of the roles and responsibilities of all key and other professional personnel (as described below) proposed. Resumes must be submitted as an attachment to the application and will not count toward the page limit. At a minimum, each resume must include the following:

• The educational background and previous work experience for each key and other professional personnel to be assigned to the project, including position title, duties, dates, employing organizations, and clearly defined duties;

• The special capabilities of key personnel that demonstrate prior experience in organizing, managing and performing similar efforts; and

• The current employment status of key personnel and availability for this project.

The applicant must also indicate whether the proposed work will be performed by persons currently employed by the applying organization(s), and if so, for how long, or is dependent upon planned recruitment or subcontracting.

(4) All key personnel must allocate 100 percent of their time to the project and be present within the target country. Key personnel positions must not be combined. Proposed key personnel candidates must sign letters of agreement to serve on the project, and indicate availability to commence work within 30 calendar days of Cooperative Agreement award. If key personnel candidates are not designated, or if letters of agreement to serve on the project or resumes are not submitted as part of the application, the application will be considered unresponsive and will be rejected. (These will not count toward the page limit.) If either the Education Specialist or Monitoring and Evaluation Officer are not fluent in English, the project must assume responsibility for ensuring that key personnel have a clear understanding of USDOL policies and procedures and that all documents produced by key staff for submission to USDOL are in fluent English.

ii. Other Professional Personnel. The applicant must identify other program personnel proposed to carry out the requirements of this solicitation. The applicant must also indicate whether the proposed work by other professional personnel will be performed by persons currently employed by the organization(s) or is dependent upon planned recruitment or subcontracting.

iii. Management Plan. Applicants will be rated based on the clarity and quality of the information provided in the management plan. The plan must include (a) a description of the functional relationship between elements of the project's management structure; and (b) the responsibilities of project staff and management and the lines of authority between project staff and other elements of the project.

iv. Staff Loading Plan. The staff loading plan must identify all key tasks and the person-days required to complete each task. Labor estimated for each task must be broken down by individuals assigned to the task, including Associates, subcontractors, and consultants. All key tasks should be charted to show the time required to perform them by months or weeks.

E. Direct Beneficiaries (5 points)

As noted above applicants are required to provide direct educational services to a minimum of 8,600 direct beneficiaries for each $5 million project based on the specific cost-efficiency measures DOL/ICLP has established with OMB. Applicants may receive up to 5 additional rating points by providing direct educational services to 10,000 or more direct beneficiaries. Please note that the proposed strategy must reflect appropriate services and monitoring mechanisms to ensure children are withdrawn from or prevented from entering exploitative child labor and are benefiting from a direct educational service provided by the project. Please refer to Section I(2) for USDOL's definition of “direct beneficiaries.”

F. Leveraging Resources (5 points)

USDOL will give up to five (5) additional rating points to applications that include committed non-Federal resources that significantly expand the dollar amount, size and scope of the application. These programs or activities will not be financed by the project, but can complement and enhance project objectives. Applicants are also encouraged to leverage resources for activities, such as micro-credit, revolving funds, or loan guarantees, which are not directly allowable under the Cooperative Agreement. To be eligible for the additional points, the applicant must list the source(s) of funds, the nature, and possible activities anticipated with these resources under this Cooperative Agreement and any partnerships, linkages or coordination of activities, cooperative funding, etc. Staff time of proposed key personnel may not be submitted as a leveraged resource.

2. Review and Selection Process

The Office of Procurement Services at USDOL will screen all applications to determine whether all required elements, as identified in Section IV(2) above, are present and clearly identifiable. If an application does not include all of the required elements, including required attachments, it will be considered unresponsive and will be rejected. Once an application is deemed unresponsive, the Office of Procurement Services will send a letter to the applicant, which will state that the application was incomplete, indicate which document was missing from the application, and explain that the technical review panel will be unable to rate the application.

The following documents must be included in the application package in order for the application to be deemed complete and responsive:

(1) A cost proposal

(2) A technical proposal

(3) The applicant's most recent audit report

(4) Resumes of all key personnel candidates

(5) Signed letters of agreement to serve on the project from all key personnel candidates

(6) Signed partnership agreement(s), if applicable.

Each complete application will be objectively rated by a technical review panel against the criteria described in this announcement. Applicants are advised that panel recommendations to the Grant Officer are advisory in nature. The Grant Officer may elect to select a Grantee on the basis of the initial application submission or the Grant Officer may establish a competitive or technically acceptable range from which qualified applicants will be selected. If deemed appropriate, the Grant Officer may call for the preparation and receipt of final revisions of applications, following which the evaluation process described above, may be repeated, in whole or in part, to consider such revisions. The Grant Officer will make final selection determinations based on panel findings and consideration of factors that represent the greatest advantage to the government, such as cost, the availability of funds, and other factors. If USDOL does not receive technically acceptable applications in response to this solicitation, USDOL reserves the right to terminate the competition and not make any award. The Grant Officer's determinations for awards under this solicitation are final.

Note to All Applicants: Selection of an organization as a potential Cooperative Agreement recipient does not constitute approval of the Cooperative Agreement application as submitted. Before the actual Cooperative Agreement is awarded, USDOL may enter into negotiations about such items as program components, funding levels, and administrative systems in place to support Cooperative Agreement implementation. If the negotiations do not result in an acceptable submission, the Grant Officer reserves the right to terminate the negotiation and decline to fund the application. In addition, USDOL reserves the right to further negotiate program components after award, during the project design document submission and review process. See Section V(3)(A).

Award of a Cooperative Agreement under this solicitation may also be contingent upon an exchange of project support letters between USDOL and the relevant ministries in the target country.

3. Anticipated Announcement and Award Dates

Designation decisions will be made, where possible, within 45 days after the deadline for submission of proposals. USDOL is not obligated to make any awards as result of this solicitation, and only the Grant Officer can bind USDOL to the provision of funds under this solicitation. Unless specifically provided in the Cooperative Agreement, USDOL's acceptance of a proposal and/or award of Federal funds does not waive any Cooperative Agreement requirements and/or procedures.

VI. Award Administration Information

1. Award Notices

The Grant Officer will notify applicants of designation results as follows:

Designation Letter: The designation letter signed by the Grant Officer will serve as official notice of an organization's designation. The designation letter will be accompanied by a Cooperative Agreement and ICLP's Management Procedures and Guidelines (MPG).

Non-Designation Letter: Any organization not designated will be notified formally of the non-designation and given the basic reasons for the determination.

Notification of designation by a person or entity other than the Grant Officer is not valid.

2. Administrative and National Policy Requirements

A. General

Grantees are subject to applicable U.S. Federal laws (including provisions of appropriations law) and regulations, Executive Orders, applicable OMB Circulars, and USDOL policies. If during project implementation a Grantee is found in violation of U.S. Government laws and regulations, the terms of the Cooperative Agreement awarded under this solicitation may be modified by USDOL, costs may be disallowed and recovered, the Cooperative Agreement may be terminated, and USDOL may take other action permitted by law. Determinations of allowable costs will be made in accordance with the applicable U.S. Federal cost principles.

B. Audits

After award, Grantees must also submit an annual independent audit regardless of grant amount.

i. For U.S. based non-profit organizations expending $500,000 or more in a year in Federal awards: a “single” or “program specific” audit conducted under the provisions of OMB Circular A-133 is required.

ii. For all other organizations (including foreign-based and private for-profit grantees): an audit conducted in accordance with the U.S. Government Accountability Office's (GAO) “Government Auditing Standards” is required. The audit must address the following:

(a) Compliance with the Department's regulations and the provisions of the Cooperative Agreement; and

(b) Reliability of the organization's financial and performance reports.

Costs for audits or attestation engagements should be included in direct or indirect costs, whichever is appropriate.

Please Note: USDOL generally allows the costs to be allocated based on the following (applicable to U.S. based agencies only): (1) A-133 “single audit” costs as part of the indirect cost rate/pool for organizations with more than one Federal source of funding. Organizations with only one Federal source could charge the A-133 single audit cost as direct costs; (2) A-133 “compliance supplement” costs—as direct costs for Federal sources only through a cost allocation methodology approved by the Federal cognizant agency; or (3) A-133 program specific audits as direct costs. Any deviations from the above must be explained and justified in the application.

C. Administrative Standards and Provisions

The Cooperative Agreements awarded under this solicitation are subject to the following administrative standards and provisions, and any other applicable standards that come into effect during the term of the Cooperative Agreement, if applicable to a particular Grantee:

i. 29 CFR Part 2 Subpart D—Equal Treatment in Department of Labor Programs for Religious Organizations; Protection of Religious Liberty of Department of Labor Social Service Providers and Beneficiaries.

ii. 29 CFR Part 31—Nondiscrimination in Federally Assisted Programs of the Department of Labor—Effectuation of Title VI of the Civil Rights Act of 1964.

iii. 29 CFR Part 32—Nondiscrimination on the Basis of Handicap in Programs and Activities Receiving or Benefiting from Federal Financial Assistance.

iv. 29 CFR Part 33—Enforcement of Nondiscrimination on the Basis of Handicap in Programs or Activities Conducted by the Department of Labor.

v. 29 CFR Part 35—Nondiscrimination on the Basis of Age in Programs or Activities Receiving Federal Financial Assistance from the Department of Labor.

vi. 29 CFR Part 36—Federal Standards for Nondiscrimination on the Basis of Sex in Education Programs or Activities Receiving Federal Financial Assistance.

vii. 29 CFR Part 93—New Restrictions on Lobbying.

viii. 29 CFR Part 95—Uniform Administrative Requirements for Grants and Agreements with Institutions of Higher Education, Hospitals and other Non-Profit Organizations, and with Commercial Organizations, Foreign Governments, Organizations Under the Jurisdiction of Foreign Governments and International Organizations.

ix. 29 CFR Part 96—Federal Standards for Audit of Federally Funded Grants, Contracts and Agreements.

x. 29 CFR Part 98—Federal Standards for Government-wide Debarment and Suspension (Nonprocurement) and Government-wide Requirements for Drug-Free Workplace (Grants).

xi. 29 CFR Part 99—Federal Standards for Audits of States, Local Governments, and Non-Profit Organizations.

Copies of all regulations referenced in this solicitation are available at no cost, on-line, at http://www.dol.gov.

Grantees should be aware that terms outlined in this solicitation, the Cooperative Agreement, and the MPGs are all applicable to the implementation of projects awarded under this solicitation.

D. Key Personnel

As noted in Section V(1)(D), the applicant must list all Key Personnel candidates.

After the Cooperative Agreement has been awarded and throughout the life of the project, Grantees agree to inform the Grant Officer's Technical Representative (GOTR) whenever it appears impossible for any key personnel to continue work on the project as planned. The Grantee must nominate, through the submission of a formal project revision, new personnel; however, the Grantee must obtain approval from the Grant Officer before all changes to key personnel are formalized. If the Grant Officer is unable to approve the key personnel change, she or he reserves the right to terminate the Cooperative Agreement or disallow costs.

E. Encumbrance of Cooperative Agreement Funds

Cooperative agreement funds may not be encumbered/obligated by a Grantee before or after the period of performance. Encumbrances/obligations outstanding as of the end of the Cooperative Agreement period may be liquidated (paid out) after the end of the Cooperative Agreement period. Such encumbrances/obligations may involve only specified commitments for which a need existed during the Cooperative Agreement period and that are supported by approved contracts, purchase orders, requisitions, invoices, bills, or other evidence of liability consistent with a Grantee's purchasing procedures and incurred within the Cooperative Agreement period. All encumbrances/obligations incurred during the Cooperative Agreement period must be liquidated within 90 calendar days after the end of the Cooperative Agreement period, unless a longer period of time is granted by USDOL.

Federal Regulations require Grantees to submit annually an inventory listing of federally-owned property in their custody to USDOL. See 29 CFR 95.33(a). Such property must be inventoried and secured throughout the life of the project. At the end of the project, USDOL and the Grantee are expected to determine how to best allocate such property in order to promote sustainability of efforts in the projects' implementing areas.

F. Site Visits

USDOL, through its authorized representatives, has the right, at all reasonable times, to make site visits to review project accomplishments and management control systems and to provide such technical assistance as may be required. USDOL shall make every effort to notify the Grantee at least two weeks in advance of any trip to the USDOL-funded project site. If USDOL makes any site visit on the premises of a Grantee or a subcontractor(s) under this Cooperative Agreement, the Grantee shall provide and shall require its subcontractors to provide all reasonable facilities and assistance for the safety and convenience of government representatives in the performance of their duties. All site visits and evaluations are expected to be performed in a manner that will not unduly delay the implementation of the project.

3. Reporting and Deliverables

In addition to meeting the above requirements, a Grantee is expected to monitor the implementation of the program; report to USDOL on a semi-annual basis or more frequently if deemed necessary by USDOL; and undergo independent evaluations of program results. Guidance on USDOL procedures and management requirements will be provided to Grantees in the MPGs with the Cooperative Agreement. Unless otherwise indicated, a Grantee must submit copies of all required reports to USDOL by the specified due dates. Exact timeframes for completion of deliverables will be addressed in the Cooperative Agreement and the MPGs.

Specific deliverables are the following:

A. Project Design Document

Within 180 calendar days of project award, the Grantee must deliver the final project design document, based on the application written in response to this solicitation, including the results of additional consultation with stakeholders, partners, and USDOL. The final project design document must also include sections that address coordination strategies, project management and sustainability.

B. Progress and Financial Reports

The format for the progress reports will be provided in the MPG distributed after the award. Grantees must furnish a typed technical progress report and a financial report (SF 269) to USDOL on a semi-annual basis by 31 March and 30 September of each year during the Cooperative Agreement period. However, USDOL reserves the right to require up to four technical progress reports a year, as necessary. Also, a copy of the Federal Cash Transactions Report (PSC 272) must be submitted to USDOL upon submission to the Health and Human Services—Payment Management System (HHS-PMS).

C. Annual Work Plan

Grantees must develop a final annual work plan within 180 calendar days of project award for approval by USDOL so as to ensure coordination with other relevant social actors throughout the country. Updated annual work plans must be delivered annually with the September technical progress reported.

D. Performance Monitoring and Evaluation Plan

Grantees must develop a performance monitoring and evaluation plan in collaboration with USDOL, including beginning and ending dates for the project; indicators, methods and cost of data collection; and planned and actual dates for mid-term and final evaluations. The Performance Monitoring Plan (PMP) must be developed in conjunction with the logical framework project design and common indicators for reporting selected by USDOL. The plan must include a limited number of additional key indicators that can be realistically measured within the cost parameters allocated to project monitoring. Baseline data collection is expected to be tied to the indicators of the project design document and the PMP. A draft PMP must be submitted to USDOL within 180 calendar days of project award. See background materials available on ICLP's Web site http://www.dol.gov/ilab/grants/bkgrd.htm for a sample PMP.

E. Project Evaluations

Grantees and the GOTR will determine on a case-by-case basis whether a mid-term evaluation will be conducted by an internal or external evaluation team. All final evaluations must be external and independent in nature. A Grantee must respond in writing to any comments and recommendations provided in the mid-term evaluation report. The budget must include at least USD 70,000 for projected mid-term and final evaluation costs.

VII. Agency Contacts

All inquiries regarding this solicitation should be directed to: Ms. Lisa Harvey, U.S. Department of Labor, Procurement Services Center, 200 Constitution Avenue, NW., Room N-5416, Washington, DC 20210; telephone (202) 693-4570 (this is not a toll-free-number) or e-mail: harvey.lisa@dol.gov. For a list of frequently asked questions on USDOL's Child Labor Education Initiative Solicitation for Cooperative Agreement, please visit http://www.dol.gov/ILAB/faq/faq36.htm.

VIII. Other Information

1. Press Issues

The Grantee must inform USDOL to the extent possible of major press events and/or interviews. Any press release or press conference referring to a USDOL-funded project must first be discussed and agreed to with USDOL and the appropriate U.S. Embassy. USDOL and the Grantee are expected to discuss general policy towards the press when it relates to (1) acknowledgement of USDOL funding, and (2) USDOL policy regarding international child labor.

2. Materials Prepared Under the Cooperative Agreement

Grantees must submit to USDOL, for approval, all media-related, awareness-raising, and educational materials developed by the Grantee or its subcontractors before they are reproduced, published, or used. USDOL considers such materials to include brochures, pamphlets, videotapes, slide-tape shows, curricula, and any other training materials used in the program. USDOL will review materials for technical accuracy and other issues.

In addition, USDOL reserves a royalty-free, nonexclusive, and irrevocable right to reproduce, publish, or otherwise use for Federal purposes, and authorize others to do so, all materials that are developed or for which ownership is purchased by the Grantee under an award.

3. Acknowledgment of USDOL Funding and USDOL Disclaimer

USDOL has established procedures and guidelines regarding acknowledgement of funding. The Grantee must acknowledge USDOL funding support in all publications, announcements, speeches and press releases relating to the projects. The acknowledgement must be as follows:

Funding for this (* * *) was provided by the United States Department of Labor under Cooperative Agreement number ________ .

In addition, the Grantee is required to include a disclaimer in publications and materials that have been directly funded by USDOL as follows:

This (* * *) does not necessarily reflect the views or policies of the United States Department of Labor, nor does the mention of trade names, commercial products, or organizations imply endorsement by the United States Government.

This acknowledgement and disclaimer must be included in documents (reports and other materials) produced, edited and published for distribution beyond the Grantee and USDOL (i.e., to other donors, organizations, or the general public). At a minimum, the following USDOL-funded documents must include the acknowledgement and disclaimer:

• Research and Data Collection, including: Survey reports, rapid assessments and baseline survey reports, research studies (economic, social, legislation, education, health, etc.), good practices report and diagnostic reports;

• Manuals and Guidelines, including: Training manuals, operational and technical guidelines;

• Awareness Raising Materials, including: Web sites, posters, videos, cd-roms and pamphlets.

If there are any reasons preventing the Grantee from including the USDOL acknowledgement or disclaimer in the publications listed above, the Grantee must discuss the issue with USDOL prior to publication to obtain appropriate guidance on the matter.

The USDOL logo may be applied to USDOL-funded material prepared for worldwide distribution, including posters, videos, pamphlets, research documents, national survey reports, impact evaluations, best practices reports and other publications of global interest. A Grantee must consult with USDOL on whether the logo may be used on any such items prior to final draft or final presentation for distribution. A Grantee must obtain USDOL written permission before placing the USDOL logo on any item.

4. Privacy and Freedom of Information

Any information submitted in response to this solicitation will be subject to the provisions of the Privacy Act and the Freedom of Information Act, as appropriate.

Signed at Washington, DC, this 19th day of May, 2006.
Eric Vogt,
Grant Officer.

Appendix A: Technical Proposal Format

Abstract

A. Project Design/Budget-Cost Effectiveness

i. Background and Justification

ii. Proposed Strategy

iii. Project Monitoring and Evaluation

iv. Budget-Cost Effectiveness Narrative (with cost of activities linked to Outputs Based Budget in Annex B)

B. Sustainability Plan

C. Organizational Capacity

i. International and U.S. Government Grant Experience

ii. Country Presence

iii. Fiscal Oversight

D. Management Plan/Key Personnel/Staffing

i. Key Personnel

ii. Other Professional Personnel

iii. Management Plan

iv. Staff Loading Plan

E. Leveraged Resources

i. Contributions/Inputs provided by the Grantee

ii. National and/or Other Contributions

Annex A: Full Presentation of the Logical Framework Matrix

Annex B: Outputs Based Budget

(An example of a Logical Framework matrix, an Outputs Based Budget, PMP and other background documentation for this solicitation are available from ILAB's Web site at http://www.dol.gov/ilab/grants/bkgrd.htm.).

BILLING CODE 4510-28-P

[FR Doc. 06-4857 Filed 5-24-06; 8:45 am]

BILLING CODE 4510-28-C